NATIONAL SCIENCE FOUNDATION

Office of Polar Programs' Office Advisory Committee; Notice of Meeting

In accordance with the Federal Advisory Committee Act (Pub. L. 92-463, as amended), the National Science Foundation announces the following meeting:

Name: Office of Polar Programs' Office Advisory Committee (1130).

Date and Time: November 6-7, 2000; 8:30 a.m. to 5:00 p.m.

Place: National Science Foundation, 4201 Wilson Blvd., Room 1235, Arlington, VA.

Type of Meeting: Open, with the exception of discussions about any parts of the Committee of Visitors meeting which could include information of a proprietary or confidential nature, including technical information; financial data, such as salaries; and personal information concerning individuals associated with the proposals. These matters are exempt under 5 U.S.C. 552b(c), (4) and (6) of the Government in the Sunshine Act. Specific times of closed sessions may be obtained from the contact person listed below prior to meeting date.

Contact Person: Brenda Williams, Office of Polar Programs, National Science Foundation, 4201 Wilson Blvd., Suite 775, Arlington, VA 22230. Telephone: (703) 306-1030.

Minutes: May be obtained from the contact person listed above.

Purpose of Meeting: To advise NSF on the impact of its policies, programs and activities on the polar research community; to provide advice to the Director of OPP on issues related to long range planning, and to form ad hoc subcommittees to carry out needed studies and tasks.

Agenda: Discussion of NSF-wide initiatives, long-range planning, Committee of Visitors Report, and GPRA.

Dated: October 10, 2000.
Karen J. York,
Committee Management Officer.

[FR Doc. 00-26315 Filed 10-12-00; 8:45 am]

BILLING CODE 7555-01-M